DEPARTMENT OF EDUCATION

[CFDA No. 84.310A]

Office of Innovation and Improvement; Parental Information and Resource Centers Program; Notice Inviting Applications for New Awards for Fiscal Year (FY) 2003

AGENCY: Department of Education.

ACTION: Notice inviting applications for new awards for fiscal year (FY) 2003.

Purposes of Program: The Parental Information and Resource Centers (PIRC) program provides resources that eligible applicants can use in pursuit of the objectives of the No Child Left Behind (NCLB) Act, which provides resources to enable all elementary and secondary students to achieve to high standards and holds schools, local educational agencies, and States accountable for ensuring that they do so. In particular, this program provides an opportunity for eligible entities to focus on assisting the parents of children who attend schools identified for improvement, corrective action, or restructuring under Title I, Part A of the Elementary and Secondary Education Act (ESEA).

The PIRC program supports school-based and school-linked parental information and resource centers that—

(1) Help implement effective parental involvement policies, programs, and activities that will improve children's academic achievement;

(2) Develop and strengthen partnerships among parents (including parents of children from birth through age five), teachers, principals, administrators, and other school personnel in meeting the educational needs of children;

(3) Develop and strengthen the relationship between parents and their children's school;

(4) Further the developmental progress of children assisted under the program;

(5) Coordinate activities funded under the program with parental involvement initiatives funded under section 1118 and other provisions of the ESEA; and

(6) Provide a comprehensive approach to improving student learning, through coordination and integration of Federal, State, and local services and programs.

Eligible Applicants: Non-profit organizations, or consortia of non-profit organizations and local educational agencies (LEAs). LEAs alone are not eligible to apply for funding.

A “non-profit organization” is an organization whose net earnings do not benefit, and cannot lawfully benefit, any private shareholder or entity. Faith-based and community organizations are eligible to apply for funding provided that they are nonprofit organizations.

For purposes of the PIRC program, the term “non-profit organization” does not include institutions of higher education, State educational agencies, LEAs, intermediate school districts, schools, government entities, or hospitals.

Applications Available: June 3, 2003.

Deadline for Transmittal of Applications: July 18, 2003.

Deadline for Intergovernmental Review: September 16, 2003.

Notification of Intent to Apply for Funding: We will be able to develop a more efficient process for reviewing grant applications if we have a better understanding of the number of entities that intend to apply for funding. Therefore, we strongly encourage each potential applicant to send, by June 18, 2003, a notification of its intent to apply for funding to the following address: patricia.kilby-robb@ed.gov.

The notification of intent to apply for funding is optional and should not include information regarding the proposed application. Eligible applicants that fail to provide the notification may still submit an application by the application deadline.

Estimated Available Funds: $20.5 million.

Estimated Range of Awards: $200,000 to $700,000.

Estimated Average Size of Awards: $500,000.

Estimated Number of Awards: 40.

Note: These estimates are projections for the guidance of potential applicants. The Department is not bound by any estimates in this notice.

Project Period: Up to 36 months.

Applicable Regulations and Statute: (a) Regulations. The Education Department General Administrative Regulations (EDGAR) in 34 CFR parts 74, 75, 77, 79, 81, 82, 85, 97, 98, and 99. The regulations in 34 CFR Part 80 also apply to an LEA that is part of a consortium receiving assistance. (b) Statute. Sections 5561 to 5565 of the Elementary and Secondary Education Act as reauthorized by the No Child Left Behind Act of 2001.

Priority

Under 34 CFR 75.105(c)(2), we have established the following two competitive preferences for the FY 2003 PIRC competition:

(1) The Secretary will give up to 20 additional points to each applicant that proposes specific strategies to assist parents in understanding their State accountability system and the opportunities for supplemental services and public school choice afforded to their children under section 1116 of the ESEA. The Secretary believes that this competitive preference will increase the likelihood that the activities of the funded PIRCs will improve services to parents of students who are attending low-performing schools (the schools that are not making adequate academic progress), leading to enhancements in student academic achievement.

(2) The Secretary will give 10 additional points to each “novice applicant”. For the purposes of this grant competition a novice applicant is an applicant that (1) has never received a grant under the PIRC program; (2) has never been a member of group application (submitted in accordance with 34 CFR 75.127-75.129) that received a grant under the PIRC program; and (3) has not had an active discretionary grant from the Federal Government in the five years before July 18, 2003.

These points will be in addition to any points the applicant earns under the selection criteria.

Performance Measures: The Secretary has established the following key performance measure for assessing the effectiveness of the PIRC program: the number of parents who receive the information necessary for them to understand their State accountability system and the opportunities for supplemental services and public school choice afforded to their children under section 1116 of the ESEA. The Secretary has set an overall performance target that calls for the number of parents receiving such information from PIRC projects to increase by five percent annually.

In applying the selection criteria that follow for the “Quality of the project design” and the “Quality of the project evaluation”, the Secretary will take into consideration the extent to which the applicant demonstrates a strong capacity (1) to help achieve this nationwide target, and (2) to provide reliable data to the Department on the project's impact as measured by the number of parents participating in PIRC activities that are designed to provide parents with the information necessary for them to understand their State accountability system and the opportunities for supplemental services and public school choice afforded to their children under section 1116 of the ESEA.

Selection Criteria: We will use the following selection criteria and factors to evaluate applications under this competition.

The maximum score for all of the selection criteria is 100 points. The total maximum score of an application is 130 points (100 points under the selection criteria and an additional 30 points under the competitive preferences).

The Secretary will use the following selection criteria to evaluate applications for PIRC projects under this competition:

(a) Need for project (15 points).

In determining the need for the proposed project, the Secretary considers the following factors:

(1) The extent to which the proposed project will focus on serving or otherwise addressing the needs of disadvantaged individuals; and

(2) The extent to which specific gaps or weaknesses in services, infrastructure, or opportunities have been identified and will be addressed by the proposed project, including the nature and magnitude of those gaps or weaknesses.

(b) Quality of the project design (25 points).

In determining the quality of the design of the proposed project, the Secretary considers the following factors:

(1) The extent to which the goals, objectives, and outcomes to be achieved by the proposed project are clearly specified and measurable;

(2) The extent to which the design of the proposed project is appropriate to, and will successfully address, the needs of the target population or other identified needs;

(3) The extent to which the design of the proposed project reflects up-to-date knowledge from research and effective practice;

(4) The extent to which the proposed project represents an exceptional approach to meeting statutory purposes and requirements; and

(5) The extent to which the proposed project will be coordinated with similar or related efforts, and with other appropriate community, State, and Federal resources.

(c) Quality of project services (15 points).

In determining the quality of the services to be provided by the project, the Secretary considers the following factors:

(1) The likely impact of the services to be provided by the proposed project on the intended recipients of those services; and

(2) The likelihood that the services to be provided by the proposed project will lead to improvements in the achievement of students as measured against rigorous academic standards.

(d) Quality of project personnel (10 points).

In determining the quality of project personnel, the Secretary considers the following factors:

(1) The qualifications, including relevant training and experience, of key personnel (including the project director); and

(2) The qualifications, including relevant training and experience, of project consultants or subcontractors.

(e) Adequacy of resources (5 points).

In determining the adequacy of resources for the proposed project, the Secretary considers the following factors:

(1) The adequacy of support, including facilities, equipment, supplies, and other resources, from the applicant organization or the lead applicant organization; and

(2) The extent to which the costs are reasonable in relation to the number of persons to be served and to the anticipated results and benefits.

(f) Quality of management plan (10 points).

In determining the quality of the management plan for the proposed project, the Secretary considers the following factors:

(1) The adequacy of the management plan to achieve the objectives of the proposed project on time and within budget, including clearly defined responsibilities, timelines, and milestones for accomplishing project tasks; and

(2) The adequacy of mechanisms for ensuring high-quality products and services from the proposed project.

(g) Quality of the project evaluation (20 points).

In determining the quality of the evaluation, the Secretary considers the following factors:

(1) The extent to which the methods of evaluation include the use of objective performance measures that are clearly related to the intended outcomes of the project and will produce quantitative and qualitative data to the extent possible; and

(2) The extent to which the methods of evaluation will provide for performance feedback and permit periodic assessment of progress toward achieving intended outcomes. Waiver of Proposed Rulemaking: It is the Secretary's practice, in accordance with the Administrative Procedure Act (5 U.S.C. 553) to offer interested parties the opportunity to comment on proposed rules that are not taken directly from statute. Ordinarily, this practice would have applied to the competitive priority and selection criteria in this notice. Section 437(d)(2) of the General Education Provisions Act (GEPA), however, exempts from this rulemaking requirement those rules where the Secretary determines it would cause extreme hardship to the intended beneficiaries of the program that would be affected by those rules. The Secretary, in accordance with section 437(d)(2) of GEPA, has decided to forgo public comment with respect to the competitive priority in this grant competition in order to ensure timely and high-quality awards. These rules will apply only to the FY 2003 grant competition.

For Applications and Further Information Contact: Patricia Kilby-Robb, U.S. Department of Education, 400 Maryland Avenue, SW., room 3E209, FOB-6, Washington, DC 20202-6254. Telephone: (202) 260-2225 or via Internet: patricia.kilby-robb@ed.gov.

If you use a telecommunications device for the deaf (TDD), you may call the Federal Information Relay Service (FIRS) at 1-800-877-8339.

Individuals with disabilities may obtain this document in an alternative format (e.g., Braille, large print, audiotape, or computer diskette) on request to the program contact person listed under FOR APPLICATIONS AND FURTHER INFORMATION CONTACT.

Individuals with disabilities may obtain a copy of the application package in an alternative format by contacting that person. However, the Department is not able to reproduce in an alternative format the standard forms included in the notice.

Electronic Access to This Document

You may view this document, as well as all other Department of Education documents published in the Federal Register, in text or Adobe Portable Document Format (PDF) on the Internet at the following site: http://www.ed.gov/legislation/FedRegister.

To use PDF, you must have the Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority:

20 U.S.C. 7273 et seq.

Dated: May 29, 2003.
Nina S. Rees,
Deputy Under Secretary for Innovation and Improvement.

[FR Doc. 03-13837 Filed 6-2-03; 8:45 am]

BILLING CODE 4000-01-P